DEPARTMENT OF TRANSPORTATION

Research and Special Programs Administration

[Docket RSPA-03-14455; Notice 1]

Cost-Benefit Study of Excess Flow Valve Installation on Gas Service Lines

AGENCY: Research and Special Programs Administration (RSPA), Department of Transportation (DOT).

ACTION: Notice of study availability and request for public comments.

SUMMARY: This notice seeks comments from the public on a cost-benefit study of mandatory installation of excess flow valves (EFVs) on all new and renewed gas distribution service lines. This study was performed by the Volpe National Transportation Systems Center (Volpe) at the request of RSPA's Office of Pipeline Safety (OPS) in response to a recommendation by the National Transportation Safety Board (NTSB).

DATES: Comments on this notice must be received by May 6, 2003 to ensure consideration.

ADDRESSES: Interested persons are invited to submit comments in duplicate to the Research and Special Programs Administration, U.S. Department of Transportation, Dockets Facility, Plaza 401, 400 Seventh Street, SW, Washington, DC 20590-0001 or by e-mail to dms.dot.gov. Comments must identify the docket number of this notice. Persons wishing to receive confirmation of receipt of their comments must include a stamped, self-addressed postcard.

A copy of the report and all comments in Docket No. RSPA-03-14455 may be reviewed at the Dockets Facility between 10 a.m. to 5 p.m., Monday through Friday, except on Federal holidays. The docket may also be accessed electronically over the Internet at dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Marvin Fell, U.S. Department of Transportation (DOT), RSPA/OPS, 400 Seventh Street, SW, Washington, DC 20950, telephone (202) 366-6205, or by e-mail marvin.fell@rspa.dot.gov.

SUPPLEMENTARY INFORMATION: Federal pipeline safety regulations do not require the installation of Excess Flow Valves (EFVs) on service lines. However, if an EFV is installed on a single residence service line, the regulations set minimum performance standards for these valves. These performance standards provide that an EFV must function properly up to the maximum operating pressure at which the valve is rated and at all temperatures reasonably expected in the operating environment of the service line. Furthermore, the EFV must not close when the pressure is less than the manufacturer's minimum specified operating pressure and the flow rate is below the manufacturer's minimum specified closure rate. The performance standards are found at 49 CFR 192.381.

The Federal pipeline safety regulations also require operators of gas distribution pipelines to notify certain service line customers of the availability of EFVs for installation at the customer's expense. The notification requirements only apply for newly installed or replaced single-family residential gas service lines operating at not less than 10 pounds per square inch gauge (psig). The notification requirements are found at 49 CFR 192.383.

The written notification must include information on the safety benefits of EFVs and on the costs associated with the installation, maintenance, and operation of EFVs. An operator is not required to notify its customers about EFV installation when (1) EFVs meeting the performance standards in 49 CFR 192.381 are not commercially available to the gas distribution pipeline operator, (2) prior experience indicates that contaminants in the service lines could interfere with the proper operation of an EFV, or (3) special situations make it impractical for the operator to notify a service line customer before replacing a service line. The notification requirements do not apply if an operator voluntarily installs EFVs in new and renewed gas service lines.

On July 7, 1998, leakage from a natural gas distribution service line caused a gas explosion and fire in the South Riding subdivision, Loudoun County, Virginia. The accident resulted in one death, three injuries, destruction of one house, and damage to five houses. The NTSB accident investigation revealed that gas had accumulated in the basement of a house, where it probably was ignited by a water heater pilot light. A hole in the “-inch polyethylene gas service line to the house was the most likely source of the gas. The NTSB determined that the flow rate per hour from the hole in the gas service line was more than adequate to activate an EFV. The NTSB concluded that the explosion and fire would not have occurred had an EFV been installed in the service line to interrupt gas flow.

As a result of its investigation, the NTSB issued Recommendation P-01-2. It urges RSPA to require the installation of EFVs in all new and renewed services serving any type of customer—residential, commercial, or industrial. This includes installation of EFVs in new and renewed gas services operating at less than 10 psig, if appropriate EFVs are commercially available.

OPS engaged Volpe to conduct a study that estimates the benefits and costs associated with implementation of NTSB Safety Recommendation P-01-2. This study examined whether the benefits resulting from mandatory installation of EFVs on all new and renewed gas distribution service lines would exceed the costs. The full study is available in Docket Number RSPA-03-14455 or on the OPS Web page at ops.dot.gov.

OPS invites comments on all aspects of the Volpe study, and in particular, would like comments on the following questions:

(1) Are the assumptions used in performing this study clear and correct?

(2) Is the data used in the study adequate to support the conclusions of the report?

(3) Are the uncertainties of this study clearly explained?

(4) Are the conclusions drawn from this study reasonable?

(5) Are the sensitivity analyses adequate?

(6) Are there other issues regarding EFVs and EFV installation not considered in the study?

(7) Are there regulatory or non-regulatory alternatives to mandatory EFV installation on new and renewed service lines that are as effective in reducing risks to the public?

Issued in Washington, DC on March 4, 2003.
Stacey L. Gerard,
Associate Administrator for Pipeline Safety.

[FR Doc. 03-5449 Filed 3-6-03; 8:45 am]

BILLING CODE 4910-60-P